DEPARTMENT OF AGRICULTURE

Agricultural Marketing Service

7 CFR Parts 925, 930, and 948

[Docket Nos. FV06-925-610 Review; FV06-930-610 Review; and FV06-948-610 Review]

Grapes Grown in a Designated Area of Southeastern California; Tart Cherries Grown in the States of Michigan, et al.; and Irish Potatoes Grown in Colorado

AGENCY: Agricultural Marketing Service, USDA.

ACTION: Notice of review and request for comments.

SUMMARY: This document announces that the Agricultural Marketing Service (AMS) plans to review Marketing Order 925 (Grapes grown in a designated area of Southeastern California), Marketing Order 930 (Tart cherries grown in the States of Michigan, New York, Pennsylvania, Oregon, Utah, Washington, and Wisconsin), and Marketing Order 948 (Irish potatoes grown in Colorado) under the criteria contained in section 610 of the Regulatory Flexibility Act (RFA).

DATES: Written comments on this document must be received by April 24, 2006.

ADDRESSES: Interested persons are invited to submit written comments concerning this notice of review. Comments must be sent to the Docket Clerk, Marketing Order Administration Branch, Fruit and Vegetable Programs, AMS, USDA, 1400 Independence Avenue, SW., Stop 0237, Washington, DC 20250-0237; Fax: (202) 720-8938, or E-mail: moab.docketclerk@usda.gov, or Internet: http://www.regulations.gov. All comments should reference the docket number and the date and page number of this issue of the Federal Register and will be made available for public inspection in the Office of the Docket Clerk during regular business hours, or may be viewed at http://www.ams.usda.gov/fv/moab.html.

FOR FURTHER INFORMATION CONTACT: Kenneth G. Johnson, DC Marketing Field Office, Marketing Order Administration Branch, Fruit and Vegetable Programs, AMS, USDA, Unit 155, 4700 River Road, Riverdale, MD 20737; Telephone: (301) 734-5243, or Fax: (301) 734-5275; E-mail: Kenneth.Johnson@usda.gov regarding the tart cherry marketing order; Teresa Hutchinson, Northwest Marketing Field Office, Marketing Order Administration Branch, Fruit and Vegetable Programs, AMS, USDA, Portland, OR 97204; Telephone: (503) 326-7440; E-mail: Teresa.Hutchinson@usda.gov regarding the Irish potato marketing order; and

Terry Vawter, California Marketing Field Office, Marketing Order Administration Branch, Fruit and Vegetable Programs, AMS, USDA, Fresno, CA 93721; Telephone: (559) 487-5901, or Fax: (559) 487-5906; E-mail: Terry.Vawter @usda.gov regarding the California grape marketing order; or George Kelhart, Marketing Order Administration Branch, Fruit and Vegetable Programs, AMS, USDA, 1400 Independence Avenue, SW., STOP 0237, Washington, DC 20250-0237; Telephone: (202) 720-2491, or Fax: (202) 720-8938, or E-mail: George.Kelhart@usda.gov.

SUPPLEMENTARY INFORMATION: Marketing Order No. 925 (7 CFR part 925), regulates the handling of grapes grown in a designated area of southeastern California. Marketing Order No. 930, as amended (7 CFR part 930), regulates the handling of tart cherries in the States of Michigan, New York, Pennsylvania, Oregon, Utah, Washington, and Wisconsin. Marketing Order No. 948, as amended (7 CFR part 948), regulates the handling of Irish potatoes grown in the State of Colorado. These marketing orders are effective under the Agricultural Marketing Agreement Act of 1937 (AMAA), as amended (7 U.S.C. 601-674).

AMS initially published in the Federal Register (64 FR 8014; February 18, 1999) its plan to review certain regulations, including Marketing Order Nos. 925, 930, and degree to which technology, economic conditions, or other factors have changed in an area affected by the marketing order.

Written comments, views, opinions, and other information regarding the grape, tart cherry, and potato marketing orders' impact on small businesses are invited.

Dated: February 13, 2006.
Lloyd C. Day,
Administrator, Agricultural Marketing Service.

[FR Doc. 06-1536 Filed 2-17-05; 8:45 am]

BILLING CODE 3410-02-M